SMALL BUSINESS ADMINISTRATION

[Declaration of Disaster #3543]

State of Florida

Palm Beach County and the contiguous counties of Broward, Glades, Hendry, and Martin Counties in the State of Florida constitute a disaster area due to damages caused by severe storms and tornadoes on August 7, 2003. Applications for loans for physical damage as a result of this disaster may be filed until the close of business on November 10, 2003 and for economic injury until the close of business on June 9, 2004 at the address listed below or other locally announced locations: U.S. Small Business Administration, Disaster Area 2 Office, One Baltimore Place, Suite 300, Atlanta, GA 30308.

The interest rates are:

| Percent
For Physical Damage:
Homeowners with Credit Available Elsewhere | 5.125
Homeowners without Credit Available Elsewhere | 2.562
Businesses with Credit Available Elsewhere | 6.199
Businesses and Non-Profit Organizations without Credit Available Elsewhere | 3.100
Others (Including Non-Profit Organizations) with Credit Available Elsewhere | 5.500
For Economic Injury
Businesses and Small Agricultural Cooperatives without Credit Available Elsewhere | 3.100

The number assigned to this disaster for physical damage is 354311 and the number for economic injury is 9W8700.

(Catalog of Federal Domestic Assistance Program Nos. 59002 and 59008.)
Dated: September 9, 2003.
Hector V. Barreto,
Administrator.

[FR Doc. 03-23599 Filed 9-15-03; 8:45 am]

BILLING CODE 8025-01-P